DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS).

Time and Date: September 8, 2005, 9 a.m.-3:15 p.m.; September 9, 2005, 10 a.m.-3 p.m.

Place: Hubert H. Humphrey Building, 200 Independence Avenue SW., Room 705A, Washington, DC 20201.

Status: Open.

Purpose: At this meeting the Committee will hear presentations and hold discussions on several health data policy topics. On the morning of the first day the committee will hear updates and status reports from the Department on various topics including activities of the HHS Data Council, the adoption of Clinical Data Standards, and HIPAA Privacy Rule compliance. They will also hear a presentation on personal health records systems and discuss a letter to the HHS Secretary from the Workgroup on the National Health Information Infrastructure. In the afternoon the Committee will discuss its annual report along with its 7th report to Congress on implementation of HIPAA and hear an update from the Office of the National Coordinator for Health Information Technology.

On the morning of the second day the Committee will review and identify preliminary issues for action at its November meeting and hear a report from the Executive Subcommittee's retreat. There will also be briefing on the Agency for Healthcare Quality and Research's reports on health disparities and quality. In the afternoon, there will be reports from the Subcommittees and a discussion of agendas for future Committee meetings.

The times shown above are for the full Committee meeting. Subcommittee breakout sessions are scheduled for late in the afternoon of the first day and in the morning prior to the full Committee meeting on the second day. Agendas for these breakout sessions will be posted on the NCVHS Web site (URL below) when available.

For Further Information Contact: Substantive program information as well as summaries of meetings and a roster of committee members may be obtained from Marjorie S. Greenberg, Executive Secretary, NCVHS, National Center for Health Statistics, Centers for Disease Control and Prevention, 3311 Toledo Road, Room 2402, Hyattsville, Maryland 20782, telephone (301) 458-4245. Information also is available on the NCVHS home page of the HHS Web site: http://www.ncvhs.hhs.gov/, where further information including an agenda will be posted when available.

Should you require reasonable accommodation, please contact the CDC Office of Equal Employment Opportunity at (301) 458-4EEO (4336) as soon as possible.

Dated: August 12, 2005.
James Scanlon,
Acting Deputy Assistant Secretary for Science and Data Policy, Office of the Assistant Secretary for Planning and Evaluation.

[FR Doc. 05-16978 Filed 8-25-05; 8:45 am]

BILLING CODE 4151-05-M